DEPARTMENT OF ENERGY

Federal Energy Regulatory Commission

[Docket No. ER02-2001-000]

Electric Quarterly Reports; Revised Public Utility Filing Requirements; Notice of Extension of Time

June 4, 2003.

On April 25, 2002, the Commission issued Order No. 2001,¹ a final rule which requires public utilities to file Electric Quarterly Reports (EQR). Order 2001-C, issued December 18, 2002, instructs all public utilities to file these reports using Electric Quarterly Report Submission Software, beginning with the report due on or before January 31, 2003 (extended to February 21, 2003). On March 28, 2003, the Commission issued Order 2001-D, requiring public utilities to review their fourth quarter 2002 EQR submissions to ensure that the data filed was correct. Utilities were directed to re-submit their corrected data by April 11, 2003, which was extended to April 18, 2003.

¹ Revised Public Utility Filing Requirements, Order No. 2001, 67 FR 31043, FERC Stats. & Regs. ¶ 31,127 (April 25, 2002); reh'g denied, Order No. 2001-A, 100 FERC ¶ 61,074, reconsideration and clarification denied, Order No.2001-B, 100 FERC ¶ 61,342 (2002).

Despite the extended due dates, several companies requested further extensions to the filing deadlines to resolve problems they experienced with compiling and formatting their data. Notice is hereby given that the deadlines for filing EQR data are extended to the dates listed for each company identified in the attachment to this notice.

Magalie R. Salas,
Secretary.

Attachment
Utility | Quarters requested | Date of requested extension
ACN Energy, Inc. | 2nd, 3rd, 4th Q 2002; 1st Q 2003 | June 24, 2003.
Dominion Resources Services ² | 1st Q 2003 | June 16, 2003.
Enron Energy Services, Inc. and Enron Energy Marketing Corp | 2nd, 3rd, 4th Q 2002; 1st Q 2003 | June 30, 2003.
PPM Energy | 1st Q 2003 | June 6, 2003.
Sprague Energy Corp | 2nd, 3rd, 4th Q 2002; 1st Q 2003 | June 6, 2003.
Western Energy Marketers | 2nd, 3rd, 4th Q 2002; 1st Q 2003 | June 23, 2003.
The Boralex Companies ³ | 2nd, 3rd, 4th Q 2002; 1st Q 2003 | June 19, 2003.
California Independent System Operator Corp | 4th Q 2002; 1st Q 2003 | June 20, 2003.
² Includes affiliates of Virginia Electric and Power Company and Dominion Energy Marketing, Inc.
³ Includes Boralex Stratton Energy, Inc., Boralex Fort Fairfield, Inc., Boralex Ashland, Inc., Boralex Livermore Falls, Inc., Boralex Athens Energy, Inc., Boralex Chateaugay, Inc.

[FR Doc. 03-14611 Filed 6-10-03; 8:45 am]

BILLING CODE 6717-01-P